AGENCY FOR INTERNATIONAL DEVELOPMENT

USAID Information Collection Activities; Submission for OMB Review, Comment Request, Legislative and Public Affairs (LPA) Bureau

AGENCY: USAID.

ACTION: Notice of information collection; request for comment.

SUMMARY: USAID Bureau for Legislative and Public Affairs (LPA) and USAID/Ghana Mission are collaborating to conduct research regarding public perception of USAID programs in Ghana. The goal of this research is to use both qualitative and quantitative methods to gain insights into Ghanaian people's awareness and perceptions of development and USAID assistance programs and activities. The research will also narrow preferred media channels. The research data in the report will be aggregated and not provide PII or other privacy-related information. USAID LPA invites the general public and other Federal agencies to take this opportunity to comment on the following new information collection, as required by the Paperwork Reduction Act of 1995.

DATES: Comments will be accepted until May 5, 2023.

ADDRESSES: To access and review all the documents related to the information collection listed in this notice, please access the survey questionnaire at https://drive.google.com/file/d/1l0zdb2aPbYGaG_9bAmsIC7jaKQrDQ4Ww/view?usp=sharing, the interview guide at https://drive.google.com/file/d/1GHCuNQGl3pExz7aDvRC-VQvTVpZ78wu6/view?usp=sharing, and the focus group screening questionnaire at https://drive.google.com/file/d/1m1uC4CgSrv8Pxi9_UwTYv-pAGwxvmVys/view?usp=sharing. Comments submitted in response to this notice should be submitted electronically through the Federal Register.

FOR FURTHER INFORMATION CONTACT: Written requests for information or comments submitted by postal mail or delivery should be addressed to Lauren Shaw, the Director of International Communications, at 1300 Pennsylvania Avenue, Suite 6.10A, Washington, DC 20523 or via email at staffdoc@usaid.gov. Verbal requests for information or comments submitted can contact 202-712-4300.

SUPPLEMENTARY INFORMATION:

Title of Information Collection: USAID Bureau for Legislative and Public Affairs and USAID/Ghana Public Opinion Research.

Type of Request: Notice for public comment; generic clearance.

Originating Office: USAID Bureau for Legislative and Public Affairs (LPA).

Respondents: Members of the Ghanaian public: women, youths (ages 15-24), farmers, pelagic fishers, service providers, entrepreneurs, rural community leaders, and members of civil society organizations.

Respondent's obligation to respond: Voluntary.

Estimated number of respondents: 2,266 Ghanaians total (2,200 survey respondents, 48 focus-group participants [eight participants across six sessions], and 18 interviewees).

Average Time per Response: 30 minutes for survey respondents and interviews, 90 minutes for focus groups.

Frequency of response: Approximately every two years.

Total estimated burden: 596 hours.

Total estimated cost: $59,624.55.

We are soliciting public comments to permit USAID to:

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record.

Lauren Shaw,
Director, International Communications.

[FR Doc. 2023-04681 Filed 3-17-23; 8:45 am]

BILLING CODE 6116-01-P